DEPARTMENT OF AGRICULTURE

Submission for OMB Review; Comment Request

February 23, 2022.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by March 31, 2022. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service (NASS)

Title: 2022 Kentucky Equine Survey.

OMB Control Number: 0535-0264.

Summary of Collection: The primary objectives of the National Agricultural Statistics Service (NASS) are to prepare and issue official State and national estimates of crop and livestock production, disposition and prices, economic statistics, and environmental statistics related to agriculture and to conduct the Census of Agriculture and its follow-on surveys. NASS will conduct a survey of operations with equine that are farms and not farms.

Selected operators with equine in Kentucky will be asked to provide data on equine inventory by breed, type of use, income, expenses, assets, land area, workers employed and labor expenses.

General authority for these data collection activities is granted under U.S.C. Title 7, Section 2204. This survey will be conducted on a full cost recovery basis with the Kentucky Horse Council providing funding under a cooperative agreement.

Need and use of the Information: Equine are a significant economic driver in Kentucky. Based on the 2012 Kentucky Equine Survey, the economic impact of the Kentucky equine industry was $3 billion. The information published from this request will be used by state government, local government, universities, businesses and potentially others, for the purpose of maintaining and growing the equine industry. Data will be used to make business and policy decisions.

Description of Respondents: Operators (farm and non-farm) with equine on July 1, 2022 in Kentucky.

Number of Respondents: 15,000.

Frequency of Responses: Reporting: Once a year.

Total Burden Hours: 5,775.

Levi S. Harrell,
Departmental Information Collection Clearance Officer.

[FR Doc. 2022-04220 Filed 2-28-22; 8:45 am]

BILLING CODE 3410-20-P